National Science Foundation

Sunshine Act Meeting; National Science Board

The National Science Board's Awards and Facilities Committee, pursuant to NSF regulations (45 CFR part 614), the National Science Foundation Act, as amended (42 U.S.C. 1862n-5), and the Government in the Sunshine Act (5 U.S.C. 552b), hereby gives notice of the scheduling of a meeting for the transaction of National Science Board business, as follows:

DATE & TIME: May 1, 2018, from 3:00-6:00 p.m. EDT.

STATUS: Closed.

MATTERS TO BE CONSIDERED: (1) Committee Chair's opening remarks; (2) Congressional Reports; (3) High Performance Computing Information Item; (4) National Center for Atmospheric Research (NCAR) Operations and Management Award Action Item; and (5) Contract Services for Arctic Science Logistics Action Item.

This meeting will be held by teleconference at the National Science Foundation, 2415 Eisenhower Avenue, Alexandria, VA 22314. Please refer to the National Science Board website www.nsf.gov/nsb for additional information. You can find meeting information and updates (time, place, subject or status of meeting) at https://www.nsf.gov/nsb/meetings/notices.jsp#sunshine.

CONTACT PERSON FOR MORE INFORMATION: The point of contact for this meeting is: Elise Lipkowitz, elipkowi@nsf.gov, telephone: (703) 292-7000.

Ann Bushmiller,
Senior Counsel to the National Science Board.

[FR Doc. 2018-08982 Filed 4-24-18; 4:15 pm]

BILLING CODE 7555-01-P